ENVIRONMENTAL PROTECTION AGENCY

[EPA-HQ-OPP-2018-0577; FRL-9985-67]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before January 22, 2019.

ADDRESSES: Submit your comments, identified by the docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

III. Amended Tolerances for Non-Inerts

1. PP 8E8686. (EPA-HQ-OPP-2018-0561). Interregional Research Project No. 4 (IR-4), IR-4 Project Headquarters, Rutgers, The State University of NJ, 500 College Road East, Suite 201 W, Princeton, NJ 08540, requests to amend 40 CFR 180.653 by removing the established tolerances for residues of indaziflam, N-[(1R,2S)-2,3-dihydro-2,6-dimethyl-1H-inden-1-yl]-6-(1-fluoroethyl)-1,3,5-triazine-2,4-diamine, including its metabolites and degradants, in or on the raw agricultural commodity fruit, tropical and subtropical, small fruit, edible peel, subgroup 23A at 0.01 ppm. Contact: RD.

2. PP 8E8692. (EPA-HQ-OPP-2018-0623). IR-4, IR-4 Project Headquarters, Rutgers, The State University of NJ, 500 College Road East, Suite 201 W, Princeton, NJ 08540, requests to amend 40 CFR 180.499 by removing the established tolerances for the residues of propamocarb (propyl N-[3-(dimethylamino)propyl]carbamate in or on the following raw agricultural commodities: lettuce, head at 50 ppm; lettuce, leaf at 90 ppm; potato at 0.30 ppm; and vegetable, fruiting, group 8 at 2.0 ppm. Contact: RD.

IV. New Tolerance Exemptions From Non-Inters (Except PIPS)

1. PP 7F8641. (EPA-HQ-OPP-2018-0571). AgBiTech Pty Ltd., 8 Rocla Ct., Glenvale, Queensland 4350, Australia (c/o MacIntosh & Associates, Inc., 1203 Hartford Ave., St. Paul, MN 55116-1622), requests to establish an exemption from the requirement of a tolerance in 40 CFR part 180 for residues of the insecticide Chrysodeixis includens nucleopolyhedrovirus isolate #460 in or on all agricultural commodities. The petitioner believes no analytical method is needed because an analytical method for residues is not applicable since this petition requests an exemption from the requirement of a tolerance. Further, it is expected that, when used as proposed, Chrysodeixis includens nucleopolyhedrovirus isolate #460 would not result in residues that are of toxicological concern. Contact: BPPD.

2. PP 7F8653. (EPA-HQ-OPP-2018-0635). SePRO Corporation, 11550 North Meridian St., Suite 600, Carmel, IN 46032, requests to establish an exemption from the requirement of a tolerance in 40 CFR part 180 for residues of the plant activator and fungicide ningnanmycin in or on all food commodities. The petitioner believes no analytical method is needed because of the low toxicity demonstrated in the available toxicological data, and given that an exemption from the requirement for establishing a tolerance for residues is being proposed. Contact: BPPD.

3. PP 8F8675. (EPA-HQ-OPP-2018-0645). Dow AgroSciences, 9330 Zionsville Road, Indianapolis, IN 46268, requests to establish an exemption from the requirement of a tolerance in 40 CFR part 180 for residues of the herbicide florpyrauxifen-benzyl in or on all food commodities. The petitioner believes no analytical method is needed because this petition eliminates the need for maximum permissible levels for residues of florpyrauxifen-benzyl and its metabolites in or on all food commodities when used as an herbicide. Contact: RD.

V. New Tolerance Exemptions for PIPS

1. PP 8E8669. (EPA-HQ-OPP-2018-0403). Hangzhou Ruifeng Biosciences Co., Ltd., 1500 Wenyi Rd., Building 1, Room 103, Hangzhou, China (c/o GA Bannon Consulting LLC, 13 Blue Flag Court, Dardenne Prairie, MO 63368), requests to establish an exemption from the requirement of a tolerance in 40 CFR part 174 for residues of the plant-incorporated protectant (PIP) Bacillus thuringiensis fusion protein Cry1Ab/Cry2Aj in or on the food and feed commodities of corn; corn, field; corn, sweet; and corn, pop, when used as plant-incorporated protectant. The petitioner believes no analytical method is needed because an exemption from the requirement of a tolerance is being sought. Contact: BPPD.

VI. New Tolerances for Non-Inerts

1. PP 7E8638. (EPA-HQ-OPP-2018-0630). Bayer CropScience, 2 T.W. Alexander Drive, Research Triangle Park, NC 27709, requests to establish import tolerances in 40 CFR part 180.661 for residues of the fungicide fluopyram, in or on cranberry at 2.0 ppm, dry peas at 0.70 ppm, and lentils at 0.70 ppm. The analytical methods include solvent extraction, filtration and addition of an isotopically labeled internal standard followed by solid phase extraction. Quantitation is by high performance liquid chromatography-electrospray ionization/tandem mass spectrometry (LC/MS/MS). Contact: RD.

2. PP 7F8634. (EPA-HQ-OPP-2018-0038). Valent U.S.A. LLC, 1600 Riviera Avenue, Suite 200, Walnut Creek, CA 94596, requests to establish a tolerance in 40 CFR part 180 for residues of the fungicide inpyrfluxam, S-2399, in or on apple at 0.01 parts per million (ppm), apple, wet pomace at 0.03 ppm, beet, sugar, roots at 0.01 ppm, beet, sugar, molasses at 0.03 ppm, beet, sugar, dried pulp at 0.05 ppm, corn, field, forage at 0.02 ppm, corn, field, grain at 0.01 ppm, corn, field, stover at 0.02 ppm, corn, pop, grain at 0.01 ppm, corn, pop, stover at 0.02 ppm, corn, sweet, kernel plus cob with husks removed at 0.01 ppm, peanut at 0.01 ppm, peanut, hay at 2.0 ppm, rice, grain at 0.01 ppm, rice, bran at 0.02 ppm, rice, hulls at 0.05 ppm, soybean, seed at 0.01 ppm. The HPLC-MS/MS method is used to measure and evaluate the chemical inpyrfluxam. Contact: RD.

3. PP 7F8647. (EPA-HQ-OPP-2018-0677). ISK Biosciences Corporation, 7470 Auburn Road, Suite A, Concord, Ohio, 44077, requests to establish a tolerance in 40 CFR part 180 for residues of the fungicide pyriofenone, (5-chloro-2-methoxy-4-methyl-3-pyridinyl)(2,3,4-trimethoxy-6-methylphenyl)methanone, in or on fruiting vegetable crop group 8-10 at 0.30 ppm. The liquid chromatography-MS/MS is used to measure and evaluate the chemical pyriofenone. Contact: RD.

4. PP 8E8686. (EPA-HQ-OPP-2018-0561). IR-4, IR-4 Project Headquarters, Rutgers, The State University of NJ, 500 College Road East, Suite 201 W, Princeton, NJ 08540, requests to establish a tolerance for residues of indaziflam, N-[(1R,2S)-2,3-dihydro-2,6-dimethyl-1H-inden-1-yl]-6-(1-fluoroethyl)-1,3,5-triazine-2,4-diamine, including its metabolites and degradates, in or on the raw agricultural commodities Fruit, tropical and subtropical, edible peel, group 23 at 0.01 ppm and fruit, tropical and subtropical, inedible peel, group 24 at 0.01 ppm. Indaziflam residues are quantified in raw agricultural commodities by high pressure (LC/MS/MS) using the stable isotopically labeled analytes as internal standards. The limit of quantification (LOQ) for each analyte is 0.005 ppm for all commodities. Contact: RD.

5. PP 8E8692. (EPA-HQ-OPP-2018-0623). IR-4, IR-4 Project Headquarters, Rutgers, The State University of NJ, 500 College Road East, Suite 201 W, Princeton, NJ 08540, requests to establish a tolerance for residues of propamocarb (propyl N-[3-(dimethylamino)propyl]carbamate in or on the following raw agricultural commodities: guava at 0.05 ppm; starfruit at 0.05 ppm; leafy greens subgroup 4-16A at 150 ppm; vegetable, tuberous and corm, subgroup 1C at 0.30 ppm; and vegetable, fruiting, group 8-10 at 4.0 ppm. A practical analytical method utilizing gas/liquid chromatography and N-FID or MSD is available and has been validated for detecting and measuring levels of propamocarb hydrochloride in or on food. The LOQ is 0.05 mg/kg ppm. Contact: RD.

6. PP 8E8694. (EPA-HQ-OPP-2018-0619). IR-4, IR-4 Project Headquarters, Rutgers, The State University of NJ, 500 College Road East, Suite 201 W, Princeton, NJ 08540, requests to establish a tolerance for residues of the herbicide pendimethalin, including its metabolites and degradants, in or on the following raw agricultural commodities: Leaf petiole vegetables, subgroup 22B at 0.15 ppm; monarda, oil at 1.0 ppm; monarda, fresh leaves at 0.20 ppm; rosemary, oil at 1.0 ppm; and rosemary, fresh leaves at 0.20 ppm. Compliance with the tolerance levels specified is to be determined by measuring only pendimethalin, N-(1-ethylpropyl)-3,4-dimethyl-2,6 dinitrobenzenamine, and its metabolite, 4-[(1-ethylpropyl)amino]-2-methyl-3,5-dinitrobenzyl alcohol, calculated as the stoichiometric equivalent of pendimethalin. In plants, the method is aqueous organic solvent extraction, column clean up, and quantitation by GC. The method has a LOQ of 0.05 ppm for pendimethalin and the alcohol metabolite. Contact: RD.

7. PP 8E8699. (EPA-HQ-OPP-2018-0656). FMC Corporation, 2929 Walnut Street, Philadelphia, PA 19104, requests to establish a tolerance in 40 CFR part 180 for residues of the Insecticide, chlorantraniliprole, 3-bromo-N-[4-chloro-2-methyl-6-[(methylamino)-carbonyl]phenyl]-1-(3-chloro-2-pyridinyl)-1H-pyrazole-5-carboxamide, in or on palm, oil at 1.5 ppm. The liquid chromatography with tandem mass spectrometry is used to measure and evaluate the chemical chlorantraniliprole. Contact: RD.

Authority: 21 U.S.C. 346a.

Dated: December 10, 2018.
Delores Barber,
Director, Information Technology and Resources Management Division, Office of Pesticide Programs.

[FR Doc. 2018-27760 Filed 12-20-18; 8:45 am]

BILLING CODE 6560-50-P